DEPARTMENT OF HEALTH AND HUMAN SERVICES

Centers for Disease Control and Prevention

[30Day-16-16CQ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Occupational Health Safety Network (OHSN)—Existing Information Collection in Use without an OMB Control Number—National Institute for Occupational Safety and Health (NIOSH), Centers for Disease Control and Prevention (CDC).

Background and Brief Description

Healthcare in the United States is a growing industry that employs more than 19 million workers with a substantial burden of occupational injuries and illnesses. In 2013, one in five workers in the healthcare and social assistance industry reported a nonfatal job-related injury. This is the highest number of non-fatal injuries reported among all private industries.

U.S. healthcare facilities depend on surveillance data to track the incidence of injuries, identify risk factors, target prevention activities and evaluate interventions to reduce the occurrence of occupational injury among healthcare personnel. In 2012, to assist healthcare facilities to enhance capacity to use existing surveillance data, the National Institute for Occupational Safety and Health (NIOSH) launched the Occupational Health Safety Network (OHSN), a voluntary surveillance system developed specifically for healthcare personnel environment. OHSN is a free, and secure electronic occupational safety and health surveillance system that has provided U.S. healthcare facilities the ability to efficiently analyze their own occupational injury data while, at the same time, serving as a source for national surveillance by sharing their de-identified injury data with NIOSH. Unlike other national occupational surveillance systems, OHSN offers integrated approach to monitor standard occupational injuries among facility-based healthcare personnel in the U.S. and to provide timely, facility-level feedback to participants with benchmarking and analyses capabilities.

OHSN collects two types of data from participating facilities. Facilities collect these data to meet specific regulatory or administrative requirements. Thus, no new data collection is required. Participating facilities provides OHSN—(1) a onetime enrollment form, requests information of the participating facility and is publically available information from American Hospital Association database; and (2) a monthly submission of occupational injury data collected in the previous month. These data are sent to OHSN via a web portal in a format using standardized data elements and value sets. No personal identifiable information is transmitted to OHSN. Data elements include: Injury time, location and surrounding circumstances of each injury event.

Healthcare facilities download data through an OHSN-provided data conversion and mapping tools to upload the monthly occupational injury data.

Each participating facilities has access to OHSN web portal, facilities are able to analyze workers current and historical worker injury data to benchmark their internal injury rates and trends against aggregate data from similar workplaces. In addition they are able to assess the impact of prevention efforts on occupational health and safety over time using integrated data analysis and visualization tools (charts and graphs).

OHSN currently tracks three common, serious, and preventable categories of traumatic injury to healthcare personnel: Slips, trips and falls; musculoskeletal disorders resulting from patient handling and movement events; and workplace violence. OHSN will add new modules about exposure to sharps injury and blood and body fluids exposures.

NIOSH analyzes the data submitted to OHSN to conduct surveillance and to produce periodic aggregate reports on the occurrence of and risk factors for occupational injuries among all OHSN facilities.

OHSN has been operating continuously and receiving voluntary monthly reports from 116 participating facilities since 2012 and is projected to enroll total of 900 facilities in the next three years. Current burden estimates were derived using the estimated number of facilities participating in OHSN for each facility type and form. OSHA reporting mandates were taken into account when estimating the number of facilities (participants) and the annual number of responses per facility. Total burden hours for this request is 185.

NIOSH seeks approval for an OMB control number to continue this important work. There is no cost to the respondents other than their time.

Estimated Annualized Burden Hours
Type of respondents | Form name | Number of respondents | Number of responses per respondent | Average burden per response (in hrs.)
U.S. healthcare facilities | Occupational Health Safety Network (OHSN) | 300 | 12 | 3/60
U.S. healthcare facilities | Enrollment form | 300 | 1 | 1/60
Total

Leroy A. Richardson,
Chief, Information Collection Review Office, Office of Scientific Integrity, Office of the Associate Director for Science, Office of the Director, Centers for Disease Control and Prevention.

[FR Doc. 2016-06884 Filed 3-25-16; 8:45 am]

BILLING CODE 4163-18-P